NATIONAL AERONAUTICS AND SPACE ADMINISTRATION

[Notice: 16-016]

NASA Advisory Council; Aeronautics Committee Meeting

AGENCY: National Aeronautics and Space Administration.

ACTION: Notice of meeting.

SUMMARY: In accordance with the Federal Advisory Committee Act, Public Law 92-463, as amended, the National Aeronautics and Space Administration announces a meeting of the Aeronautics Committee of the NASA Advisory Council (NAC). The meeting will be held for the purpose of soliciting, from the aeronautics community and other persons, research and technical information relevant to program planning.

DATES: Wednesday, March 23, 2016, 8:30 a.m.—4:30 p.m., Local Time.

ADDRESSES: NASA Headquarters, Room 6E40, 300 E Street SW., Washington, DC 20546.

FOR FURTHER INFORMATION CONTACT: Ms. Irma Rodriguez, Executive Secretary for the NAC Aeronautics Committee, Aeronautics Research Mission Directorate, NASA Headquarters, Washington, DC 20546, (202) 358-0984, or irma.c.rodriguez@nasa.gov.

SUPPLEMENTARY INFORMATION: The meeting will be open to the public up to the capacity of the room. Any person interested in participating in the meeting by WebEx and dial-in teleconference should contact Ms. Irma Rodriguez at (202) 358-0984 for the web link, toll-free number and passcode. The agenda for the meeting includes the following topics:

• Aeronautics 10-Year Investment Strategy

• Overall Aeronautics Thrust Roadmaps Overview

• Hypersonic Research Strategy

Attendees will be requested to comply with NASA security requirements, including the presentation of a valid picture ID, before receiving an access badge. Due to the Real ID Act, Public Law 109-13, any attendees with driver's licenses issued from non-compliant states/territories must present a second form of ID. [Federal employee badge; passport; active military identification card; enhanced driver's license; U.S. Coast Guard Merchant Mariner card; Native American tribal document; school identification accompanied by an item from LIST C (documents that establish employment authorization) from the “List of the Acceptable Documents” on Form I-9]. Non-compliant states/territories are: American Samoa, Illinois, Minnesota, Missouri, New Mexico and Washington. Foreign nationals attending this meeting will be required to provide a copy of their passport and visa in addition to providing the following information no less than 10 working days prior to the meeting: full name; gender date/place of birth; citizenship; visa information (number, type, expiration date); passport information (number, country, expiration date); employer/affiliation information (name of institution, address, country, telephone); title/position of attendee; and home address to Ms. Irma Rodriguez, fax (202) 358-4060. U.S. Citizens and Permanent Residents (green card holders) are requested to submit their name and affiliation 3 working days prior to the meeting to Ms. Irma Rodriguez. For questions, please call Ms. Irma Rodriguez at (202) 358-0984. It is imperative that this meeting be held on this date to accommodate the scheduling priorities of the key participants.

Patricia D. Rausch,
Advisory Committee Management Officer, National Aeronautics and Space Administration.

[FR Doc. 2016-03914 Filed 2-23-16; 8:45 am]

BILLING CODE 7510-13-P